Title 3—

The President

Proclamation 9212 of November 19, 2014

National Child's Day, 2014

By the President of the United States of America

A Proclamation

In the faces of today's children we see tomorrow's leaders and innovators. Like their parents and grandparents before them, they have the potential to unearth new discoveries, pioneer bold inventions, and unlock groundbreaking solutions to longstanding problems. Every generation has sought to reach beyond the limits of the known world and push the boundaries of human imagination. But to realize what we know is possible for our daughters and sons, we must harness their talents and abilities. On National Child's Day, we recognize that success is built on a foundation of opportunity, and we continue our work to build a society where every child can seize his or her future.

Early education is one of the best investments we can make in a child's life, and my Administration is committed to expanding access to preschool and high-quality early learning across America. We are investing in programs that enhance and expand infant and toddler care in high-need communities, and next month, we will host the White House Summit on Early Education, bringing together a broad coalition of partners dedicated to ensuring girls and boys can learn and grow, regardless of who they are or where they come from. In districts throughout our Nation, we are strengthening our public schools and working to make sure every child has the opportunity to reach higher.

To succeed in the classroom and thrive in their communities, all children deserve a healthy start in life. That is why First Lady Michelle Obama's Let's Move! initiative is working to make it easier for parents and children to make healthy choices by increasing the availability of nutritious foods and the opportunities for physical activity. And I continue to fight to provide the freedom and security of quality, affordable health care to children and their families. The Affordable Care Act prohibits insurance companies from denying coverage to children with pre-existing conditions and requires that most health plans cover recommended preventive services for kids without copays, including immunizations and developmental screenings. Families who do not have health insurance can visit www.HealthCare.gov to find coverage that fits their needs and their budget.

A world-class education and a robust health system are essential pillars of a society devoted to ensuring children can pursue their full measure of happiness—and we all must work together to lift up the next group of thinkers and doers. As we celebrate the limitless potential of a generation born in an era of tremendous possibility, let us join with parents, professionals, and community members and renew our commitment to supporting the dreams of all our daughters and sons.

NOW, THEREFORE, I, BARACK OBAMA, President of the United States of America, by virtue of the authority vested in me by the Constitution and the laws of the United States, do hereby proclaim November 20, 2014, as National Child's Day. I call upon all citizens to observe this day with appropriate activities, programs, and ceremonies, and to rededicate ourselves to creating the bright future we want for our Nation's children.

IN WITNESS WHEREOF, I have hereunto set my hand this nineteenth day of November, in the year of our Lord two thousand fourteen, and of the Independence of the United States of America the two hundred and thirty-ninth.

[FR Doc. 2014-27927

Filed 11-21-14; 8:45 am]

Billing code 3295-F5